ENVIRONMENTAL PROTECTION AGENCY

[EPA-HQ-ORD-2013-0448; FRL-9917-71-OEI]

Information Collection Request Submitted to OMB for Review and Approval; Comment Request; Willingness To Pay Survey for Salmon Recovery in the Willamette Watershed (New)

AGENCY: Environmental Protection Agency (EPA).

ACTION: Notice.

SUMMARY: The Environmental Protection Agency has submitted an information collection request (ICR), “Willingness to Pay Survey for Salmon Recovery in the Willamette Watershed (New)” (EPA ICR No. 2489.01, OMB Control No. 2080-NEW) to the Office of Management and Budget (OMB) for review and approval in accordance with the Paperwork Reduction Act (44 U.S.C. 3501 et seq.). This is a request for approval of a new collection. Public comments were previously requested via the Federal Register (78 FR 39282) on July 1, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before December 1, 2014.

ADDRESSES: Submit your comments, referencing Docket ID Number EPA-HQ-ORD-2013-0448, to (1) EPA online using www.regulations.gov (our preferred method), by email to ord.docket@epa.gov or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Dr. Michael Papenfus, Environmental Protection Agency, Office of Research & Development, Western Ecology Division, 200 SW 35th St., Corvallis, Oregon 97333; email address: papenfus.michael@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The USEPA Office of Research and Development is investigating public values for options of salmon recovery in the Willamette Watershed in western Oregon. These values will be estimated via a willingness to pay mail survey instrument. Two anadromous fish species in the Willamette watershed are federally listed as threatened species; Spring Chinook, and Winter steelhead. The survey focuses on two attributes of recovery for these fish: The recovery status; and the time to recovery. A choice experiment framework is used with statistically designed tradeoff questions, where recovery options are posed as increases in a yearly household tax. The choice experiment is designed to allow independent isolation of the value of recovery and of time to recovery. A few additional questions to further understand the motivations for respondent choices, their river-related recreation behavior, and their attitudes towards wild origin versus hatchery origin fish are also included. Limited sociodemographic questions are included to gauge how well the sample respondents represent the target population. The survey will be fielded to Oregon residents.

Form Numbers: None.

Respondents/affected entities: Individuals.

Respondent's obligation to respond: Voluntary.

Estimated number of respondents: 1,000 (total).

Frequency of response: Once.

Total estimated burden: 500 hours (per year). Burden is defined at 5 CFR 1320.03(b).

Total estimated cost: $8,620 (per year), includes $0 annualized capital or operation & maintenance costs.

Changes in the Estimates: This is a new collection.

Courtney Kerwin,
Acting Director, Collection Strategies Division.

[FR Doc. 2014-25752 Filed 10-29-14; 8:45 am]

BILLING CODE 6560-50-P